Executive Order 13407 of June 26, 2006

Public Alert and Warning System

By the authority vested in me as President by the Constitution and the laws of the United States of America, including the Robert T. Stafford Disaster Relief and Emergency Assistance Act, as amended (42 U.S.C. 5121 et seq.), and the Homeland Security Act of 2002, as amended (6 U.S.C. 101 et seq.), it is hereby ordered as follows:

Section 1. Policy. It is the policy of the United States to have an effective, reliable, integrated, flexible, and comprehensive system to alert and warn the American people in situations of war, terrorist attack, natural disaster, or other hazards to public safety and well-being (public alert and warning system), taking appropriate account of the functions, capabilities, and needs of the private sector and of all levels of government in our Federal system, and to ensure that under all conditions the President can communicate with the American people.

Sec. 2. Functions of the Secretary of Homeland Security.

(a) To implement the policy set forth in section 1 of this order, the Secretary of Homeland Security shall:

(i) inventory, evaluate, and assess the capabilities and integration with the public alert and warning system of Federal, State, territorial, tribal, and local public alert and warning resources;

(ii) establish or adopt, as appropriate, common alerting and warning protocols, standards, terminology, and operating procedures for the public alert and warning system to enable interoperability and the secure delivery of coordinated messages to the American people through as many communication pathways as practicable, taking account of Federal Communications Commission rules as provided by law;

(iii) ensure the capability to adapt the distribution and content of communications on the basis of geographic location, risks, or personal user preferences, as appropriate;

(iv) include in the public alert and warning system the capability to alert and warn all Americans, including those with disabilities and those without an understanding of the English language;

(v) through cooperation with the owners and operators of communication facilities, maintain, protect, and, if necessary, restore communications facilities and capabilities necessary for the public alert and warning system;

(vi) ensure the conduct of training, tests, and exercises for the public alert and warning system;

(vii) ensure the conduct of public education efforts so that State, territorial, tribal, and local governments, the private sector, and the American people understand the functions of the public alert and warning system and how to access, use, and respond to information from the public alert and warning system;

(viii) consult, coordinate, and cooperate with the private sector, including communications media organizations, and Federal, State, territorial, tribal, and local governmental authorities, including emergency response providers, as appropriate;

(ix) administer the Emergency Alert System (EAS) as a critical component of the public alert and warning system; and

(x) ensure that under all conditions the President of the United States can alert and warn the American people.

(b) In performing the functions set forth in subsection (a) of this section, the Secretary of Homeland Security shall coordinate with the Secretary of Commerce, the heads of other departments and agencies of the executive branch (agencies), and other officers of the United States, as appropriate, and the Federal Communications Commission.

(c) The Secretary of Homeland Security may issue guidance to implement this order.

Sec. 3. Duties of Heads of Departments and Agencies.

(a) The heads of agencies shall provide such assistance and information as the Secretary of Homeland Security may request to implement this order.

(b) In addition to performing the duties specified under subsection (a) of this section:

(i) the Secretary of Commerce shall make available to the Secretary of Homeland Security, to assist in implementing this order, the capabilities and expertise of the Department of Commerce relating to standards, technology, telecommunications, dissemination systems, and weather;

(ii) the Secretary of Defense shall provide to the Secretary of Homeland Security requirements for the public alert and warning system necessary to ensure proper coordination of the functions of the Department of Defense with the use of such system;

(iii) the Federal Communications Commission shall, as provided by law, adopt rules to ensure that communications systems have the capacity to transmit alerts and warnings to the public as part of the public alert and warning system; and

(iv) the heads of agencies with capabilities for public alert and warning shall comply with guidance issued by the Secretary of Homeland Security under subsection 2(c) of this order, and shall develop and maintain such capabilities in a manner consistent and interoperable with the public alert and warning system.

Sec. 4. Reports on Implementation. Not later than 90 days after the date of this order, the Secretary of Homeland Security shall submit to the President, through the Assistant to the President for Homeland Security and Counterterrorism, a plan for the implementation of this order, and shall thereafter submit reports from time to time, and not less often than once each year, on such implementation, together with any recommendations the Secretary finds appropriate.

Sec. 5. Amendment, Revocation, and Transition.

(a) Section 3(b)(4) of Executive Order 12472 of April 3, 1984, as amended, is further amended by striking “Emergency Broadcast System” and inserting in lieu thereof “Emergency Alert System”.

(b) Not later than 120 days after the date of this order, the Secretary of Homeland Security, after consultation with the Assistant to the President for Homeland Security and Counterterrorism, shall issue guidance under section 2(c) of this order that shall address the subject matter of the presidential memorandum of September 15, 1995, for the Director, Federal Emergency Management Agency, on Presidential Communications with the General Public During Periods of National Emergency, and upon issuance of such guidance such memorandum is revoked.

(c) The Secretary of Homeland Security shall ensure an orderly and effective transition, without loss of capability, from alert and warning systems available as of the date of this order to the public alert and warning system for which this order provides.

Sec. 6. General Provisions. (a) This order shall be implemented in a manner consistent with:

(i) applicable law and presidential guidance, including Executive Order 12472 of April 3, 1984, as amended, and subject to the availability of appropriations; and

(ii) the authorities of agencies, or heads of agencies, vested by law.

(b) This order shall not be construed to impair or otherwise affect the functions of the Director of the Office of Management and Budget relating to budget, administrative, and legislative proposals.

(c) This order is not intended to, and does not, create any rights or benefits, substantive or procedural, enforceable at law or in equity by a party against the United States, its agencies, instrumentalities, or entities, its officers, employees, or agents, or any other person.

B

THE WHITE HOUSE,

June 26, 2006.

[FR Doc. 06-5829

Filed 6-27-06; 8:45 am]

Billing code 3195-01-P